FEDERAL COMMUNICATIONS COMMISSION

Notice of Public Information Collection(s) Being Submitted to OMB for Review and Approval

February 18, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 29, 2000. If you anticipate that you will be submitting comments, but find it difficult to do so within the period of time allowed by this notice, you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0390.

Title: Broadcast Station Annual Employment Report.

Form Number: FCC 395-B.

Type of Review: Revision of a currently approved collection.

Respondents: Business or other for-profit entities; Not-for-profit institutions.

Number of Respondents: 16,425.

Estimate Time Per Response: 0.166 to 1.0 hour.

Frequency of Response: Annual reporting requirement.

Total Annual Burden: 12,100 hours.

Total Annual Costs: None.

Needs and Uses: The Annual Employment Report, FCC Form 395-B, is required to be filed by all licensees and permittees of AM, FM, TV, international, and low power TV broadcast stations. It is a data collection device used to assess industry employment trends. The report identifies each staff member by gender, race, color, and/or national origin in each of the nine major job categories. On September 30, 1998, the FCC suspended the requirement that television and radio broadcast licensees and permittees submit the FCC Form 395-B. This suspension was to remain in effect until the Commission revised the EEO rules to be consistent with the D.C. Circuit Court's decision in Lutheran Church-Missouri Synod v. FCC. On January 20, 2000, the Commission adopted a Report and Order, MM Docket Nos. 98-204 and 96-16, Review of the Commission's Broadcast and Cable Equal Employment Opportunity Rules and Policies and Termination of the EEO Streamlining Proceeding. This Report and Order reinstates the requirement that broadcasters file the FCC Form 395-B. In addition, the FCC eliminated all requirements that broadcast licensees compare their employment profile and employee turnover with the local labor force. Furthermore, the Commission will no longer compare individual employment profiles with the local labor force as a screening device. These data will only be used to monitor industry employment trends and report to Congress.

Federal Communications Commission.
Magalie Roman Salas,
Secretary.

[FR Doc. 00-4538 Filed 2-25-00; 8:45 am]

BILLING CODE 6712-01-P